DEPARTMENT OF AGRICULTURE

Farm Service Agency

7 CFR Part 718

Commodity Credit Corporation

7 CFR Part 1480

RIN 0560-AG79 and 0560-AG95

Acreage Reporting and Common Provisions; 2001 and 2002 Crop Disaster Program; Correction

AGENCIES: Farm Service Agency, Commodity Credit Corporation, USDA.

ACTION: Final rule; correction.

SUMMARY: This document corrects final rules published on April 3, 2003, and June 26, 2003, that established provisions applicable to multiple programs of the agencies, and regulations for the 2001 and 2002 Crop Disaster Program. Corrections are necessary for provisions that conflict with statute or other program requirements and are intended to ensure that Agency regulations are properly written and implemented. These changes will apply retroactively to actions taken under the subject rules since their effective date.

DATES: Effective on December 30, 2003.

FOR FURTHER INFORMATION CONTACT: Virgil Ireland, at 202-720-5103 or virgil.Ireland@usda.gov, or Jan Jamrog, at 202-690-0926 or jan.jamrog@usda.gov.

SUPPLEMENTARY INFORMATION:

Discussion of Corrections

1. This document corrects the rule amending 7 CFR part 718, Provisions Applicable to Multiple Programs, published in the Federal Register on April 3, 2003 (68 FR 16170) under the Farm Security and Rural Investment Act of 2002 (Public Law 107-171) (the 2002 Act). 7 CFR part 718 governs how FSA monitors marketing quotas, allotments, base acres and acreage reports. The corrections are as follows:

A. Crop definitions. The first correction is in 7 CFR 718.2, adding to the definitions of Extra Long Staple (ELS) Cotton, Rice and Upland cotton the phrase “that follows the standard planting and harvesting practices for the [specific crop] for the area in which the [specific crop] is grown.” This will make the definitions consistent with those for other crops. For example, the definition of corn in § 718.2 includes the phrase “that follows the standard planting and harvesting practices for corn for the area in which the corn is grown * * *” This change clarifies the provision that a program participant cannot receive planting credit for acreage that does not comply with minimum requirements and ensures that it is correctly applied Other clarifying changes are also made.

B. Controlled Substance. The second correction is in 7 CFR 718.6(b)(3), which provides that a person convicted of trafficking in or possession of a controlled substance shall be ineligible for any or all USDA benefits for stated periods of time. This provision is included pursuant to 21 U.S.C. 862, which provides that a court may deny eligibility for certain Federal benefits to an individual convicted of distribution or possession of a controlled substance. “Federal benefit” is defined in 21 U.S.C. 862(d) to mean “any grant, contract, loan, professional license, or commercial license provided by an agency of the United States or by appropriated funds of the United States” but “does not include any retirement, welfare, Social Security, health, disability, veterans benefit, public housing, or other similar benefit, or any other benefit for which payments or services are required for eligibility. The period of ineligibility under this provision is a determination of the court, not FSA. Therefore, section 718.6 is revised by combining paragraph 718.6(b)(3) with paragraph 718.6(b)(2), which already contains the correct provision.

C. Signature Requirements. The third correction is in 7 CFR 718.9(a), which states “When a program authorized by this chapter and parts 1410 and 1413 of this title requires the signature of a producer; landowner; landlord; or tenant, a husband or wife may sign all such FSA or CCC documents on behalf of the other spouse, unless such other spouse has provided written notification to FSA and CCC that such action is not authorized. The notification must be provided to FSA with respect to each farm.” This section is corrected to change “this chapter and parts 1410 and 1413 of” to “this chapter or Chapter XIV of” to insure full coverage in all commodity programs, unless exempted by more specific rules.

2. Quality loss payments for hay. This document corrects 7 CFR part 1480, Crop Disaster Program, published in the Federal Register on June 26, 2003, under the authority of the Agricultural Assistance Act of 2003 (Public Law 108-7) (2003 Act). Section 1480.17(m) states “Quantity adjustments for diminished quality shall also not apply under this section to: Hay, honey, maple sap, turfgrass sod, crops marketed for a use other than an intended use for which there is not an established county price or yield, or any other crop that the Deputy Administrator deems it appropriate to exclude.” This section is being amended to remove the word “hay.” The 2003 Act required CCC to follow section 815 of the Agriculture, Rural Development, Food and Drug Administration, and Related Agencies Appropriations Act, 2001 (Public Law 106-387; 114 Stat. 1549A-55) (2001 Act), stating that the new program shall use “the same loss thresholds for quantity and quality losses as were administered in that section.” The 2001 Act did not exclude hay from payments for diminished quality. This document amends the rule accordingly.

These changes clarify and correct recently published regulations. Delay of their publication for public comment is unnecessary and contrary to the public interest. Further, 7 U.S.C. 7991(c)(2)(C), and section 217 of Title II, Division N, of Public Law 108-7, exempt these changes from notice and comment rulemaking. So that they may apply equally with existing regulations, these changes are effective as of the original filing of the rules they correct, as described below, implementing the 2002 Act.

List of Subjects

7 CFR Part 718

Acreage allotments, Agricultural commodities, Marketing quotas.

7 CFR Part 1480

Agricultural commodities, Disaster assistance, Emergency assistance, Reporting and record keeping requirements.

Accordingly, the Federal Register is corrected as follows:

1. In the final rule FR Doc. 03-8025 published on April 3, 2003, (68 FR 16170-16185), make the following corrections:

a. On page 68 FR 16173, in the first column, in § 718.2, correct the introductory text of the definition of “Extra Long Staple Cotton,

b. On page 68 FR 16174, in the second column, in § 718.2, correct the definition of “Rice”, and

c. On page 68 FR 16174, in the third column, in § 718.2, correct the definition of “Upland cotton,” to read as follows:

§ 718.2 Definitions.

* * * * *

Extra Long Staple (ELS) Cotton means cotton that follows the standard planting and harvesting practices of the area in which the cotton is grown, and meets all of the following conditions: * * *

* * * * *

Rice means rice that follows the standard planting and harvesting practices of the area excluding sweet, glutinous, or candy rice such as Mochi Gomi.

* * * * *

Upland cotton means planted and stub cotton that is not considered extra long staple cotton, and that follows the standard planting and harvesting practices of the area and is produced from other than pure strain varieties of the Barbadense species, any hybrid thereof, or any other variety of cotton in which one or more of these varieties predominate. For program purposes, brown lint cotton is considered upland cotton.

d. On page 68 FR 16175, in the second column, correct § 718.6 by removing paragraph (b)(3) and correcting paragraph (b)(2) to read as follows:

§ 718.6 Controlled substance.

* * * * *

(b) * * *

* * * * *

(2) Possession of a controlled substance, or trafficking in a controlled substance, shall, in addition to any ineligibility under paragraph (b)(1) of this section, be ineligible for any or all USDA benefits, to the extent that a court shall determine to impose such ineligibility pursuant to applicable Federal law, in which case the ineligibility shall be for such period of time as is imposed by the court, pursuant to such law, at the discretion of the court.

e. On page 68 FR 16176 in the first column, correct § 718.9(a) to read as follows:

§ 718.9 Signature requirements.

(a) When a program authorized by this chapter or Chapter XIV of this title requires the signature of a producer; landowner; landlord; or tenant, a husband or wife may sign all such FSA or CCC documents on behalf of the other spouse, unless such other spouse has provided written notification to FSA and CCC that such action is not authorized. The notification must be provided to FSA with respect to each farm.

* * * * *

2. In the final rule FR Doc. 03-16161, published on June 26, 2003 (68 FR 37936-37952) make the following correction. On page 68 FR 37951 in the first column, correct § 1480.17(m) to read as follows:

§ 1480.17 Quantity adjustments for diminished quality for certain crops.

* * * * *

(m) Quantity adjustments for diminished quality shall also not apply under this section to: honey, maple sap, turfgrass sod, crops marketed for a use other than an intended use for which there is not an established county price or yield, or any other crop that the Deputy Administrator deems it appropriate to exclude.

* * * * *

Signed in Washington, DC, on December 23, 2003.
James R. Little,
Administrator, Farm Service Agency, and Executive Vice President, Commodity Credit Corporation.

[FR Doc. 03-32324 Filed 12-30-03; 2:20 pm]

BILLING CODE 3410-05-P